DEPARTMENT OF ENERGY

Federal Energy Regulatory Commission

Combined Notice of Filings

Take notice that the Commission has received the following Natural Gas Pipeline Rate and Refund Report filings:

Filings Instituting Proceedings

Docket Number: PR16-68-000.

Applicants: Southern California Gas Company.

Description: Tariff filing per 284.123(b)(1) + (g): So Cal Gas—Rate Change Filing to be effective 8/1/2016; Filing Type: 1300.

Filed Date: 8/23/2016.

Accession Number: 201608235108 http://elibrary.ferc.gov/idmws/doc_info.asp?accession_num=20160415-5222.

Comments Due: 5 p.m. ET 9/13/16.

284.123(g) Protests Due: 5 p.m. ET 10/24/16.

Docket Numbers: RP16-1185-000.

Applicants: Southern Natural Gas Company, L.L.C.

Description: Section 4(d) Rate Filing: Fuel Retention Rates—Winter 2016 to be effective 10/1/2016.

Filed Date: 8/24/16.

Accession Number: 20160824-5103.

Comments Due: 5 p.m. ET 9/6/16.

Docket Numbers: RP16-1186-000.

Applicants: Empire Pipeline, Inc.

Description: Section 4(d) Rate Filing: Tuscarora Lateral Project—Petition to Amend to be effective 9/1/2016.

Filed Date: 8/25/16.

Accession Number: 20160825-5135.

Comments Due: 5 p.m. ET 9/6/16.

Docket Numbers: RP16-1187-000.

Applicants: Mississippi Hub, LLC.

Description: Section 4(d) Rate Filing: Mississippi Hub, LLC Proposed Tariff Revisions to be effective 10/1/2016.

Filed Date: 8/25/16.

Accession Number: 20160825-5154.

Comments Due: 5 p.m. ET 9/6/16.

Docket Numbers: RP16-1188-000.

Applicants: Algonquin Gas Transmission, LLC.

Description: Section 4(d) Rate Filing: Neg Rate—ConEd Release to Enhanced Energy 791998 to be effective 9/1/2016.

Filed Date: 8/26/16.

Accession Number: 20160826-5080.

Comments Due: 5 p.m. ET 9/7/16.

Docket Numbers: RP16-1189-000.

Applicants: Northern Natural Gas Company.

Description: Section 4(d) Rate Filing: 20160826 PRA Correction Filing to be effective 11/1/2016.

Filed Date: 8/26/16.

Accession Number: 20160826-5111.

Comments Due: 5 p.m. ET 9/7/16.

Docket Numbers: RP16-1190-000.

Applicants: Dominion Transmission, Inc.

Description: Compliance filing DTI—August 26, 2016 Service Agreement Termination Notice.

Filed Date: 8/26/16.

Accession Number: 20160826-5202.

Comments Due: 5 p.m. ET 9/7/16.

Docket Numbers: RP16-1191-000.

Applicants: Transcontinental Gas Pipe Line Company.

Description: Section 4(d) Rate Filing: 2016 ACA Tracker Filing—GSS, LSS, SS-2 & S-2 to be effective 10/1/2016.

Filed Date: 8/29/16.

Accession Number: 20160829-5063.

Comments Due: 5 p.m. ET 9/12/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-943-002.

Applicants: Vector Pipeline L.P.

Description: Compliance filing Negotiated Rate RP16-943 Supplement to Compliance Filing to be effective 6/1/2016.

Filed Date: 8/25/16.

Accession Number: 20160825-5134.

Comments Due: 5 p.m. ET 9/6/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2016.
Nathaniel J. Davis, Sr.,
Deputy Secretary.

[FR Doc. 2016-21531 Filed 9-7-16; 8:45 am]

BILLING CODE 6717-01-P